NEIGHBORHOOD REINVESTMENT CORPORATION

Sunshine Act Meeting; Regular Board of Directors Meeting

time and date: 2 p.m., Monday, October 3, 2005.

place: NeighborWorks® America, 1325 G Street NW., Suite 800, Boardroom, Washington, DC 20005.

status: Open.

contact person for more information: Jeffrey T. Bryson, General Counsel/Secretary, (202) 220-2372; jbryson@nw.org.

agenda:

I. Call to Order

II. Approval of Minutes: June 28, 2005, Annual Meeting

III. Resolution of Appreciation

IV. Finance and Budget Committee Report

V. Treasurer's Report

VI. Corporate Administration Committee Report

VII. Audit Committee Report

VIII. Creation of a Chief Financial Officer Position

IX. Appointment of Director of Finance as Primary Check Signer

X. CEO Quarterly Management Report

XI. NHSA Update

XII. Adjournment

Jeffrey T. Bryson,
General Counsel/Secretary

[FR Doc. 05-19898 Filed 9-29-05; 3:26 pm]

BILLING CODE 7570-01-M